DEPARTMENT OF TRANSPORTATION

Federal Aviation Administration

14 CFR Part 71

[Docket No. FAA-2003-15465; Airspace Docket No. 03-AGL-11]

Modification of Class E Airspace; Chicago, IL

Correction

In rule document 03-31739 beginning on page 74472 in the issue of Wednesday, December 24, 2003, make the following correction:

On page 74472, in the second column, under the heading History, in the first line, “September 29, 3003,” should read, “September 29, 2003.”

[FR Doc. C3-31739 Filed 1-26-04; 8:45 am]

BILLING CODE 1505-01-D